DEPARTMENT OF LABOR

Occupational Safety and Health Administration

[Docket No. OSHA-2006-0040]

SGS North America, Inc.: Grant of Expansion of Recognition and Modification to the List of Appropriate NRTL Program Test Standards

AGENCY: Occupational Safety and Health Administration (OSHA), Labor.

ACTION: Notice.

SUMMARY: In this notice, OSHA announces its final decision expanding the scope of recognition for SGS North America, Inc., as a Nationally Recognized Testing Laboratory (NRTL). Additionally, OSHA announces its final decision to add a new test standard to the NRTL list of appropriate test standards.

DATES: The expansion of the scope of recognition becomes effective on January 22, 2016.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Notice of Final Decision

The Occupational Safety and Health Administration hereby gives notice of the expansion of the scope of recognition of SGS North America, Inc. (SGS), as an NRTL. SGS's expansion covers the addition of five recognized testing and certification sites and fourteen additional test standards to its NRTL scope of recognition, including one test standard that will be added to the NRTL Program List of Appropriate Test Standards.

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

SGS currently has one facility (site) recognized by OSHA for product testing and certification, with its headquarters located at: 620 Old Peachtree Road, Suwanee, Georgia 30024. A complete list of SGS's scope of recognition is available at: https://www.osha.gov/dts/otpca/nrtl/sgs.html.

II. General Background on the Application

SGS submitted an application, dated October 1, 2014 (OSHA-2006-0040-0023), to expand its recognition to include the addition of five recognized testing and certification sites located at: SGS-CSTC Standards Technical Services Co., Ltd. Guangzhou Branch, 198 Kezhu Road, Scientech Park Guangzhou Economic & Technology Development District, Guangzhou, Guangdong, China, 510663; SGS-CSTC Standards Technical Services Co., Ltd. Shunde Branch, 198 Kezhu Road, Scientech Park Building 1, European Industrial Park, No. 1, Shunde South Road, Wusha, Daliang, Shunde District, Foshan, Guangdong, China; SGS-CSTC Standards Technical Services Co., Ltd Ningbo Branch, 1-5/F., West of Building 4, Lingyun Industry Park, No. 1177, Lingyun Road, Ningbo National Hi-Tech Zone, Ningbo, Zhejiang, China; SGS-CSTC Standards Services Co., Ltd. Shenzhen Branch, No. 1 Workshop, M-10, Middle Section, Science & Technology Park, Nan Shan District, Shenzhen, China 518057; SGS-CSTC Standards Technical Services (Shanghai) Co., Ltd., No 588 West Jindu Road, Xinqiao Town, Songjiang District 201612, Shanghai, China. SGS's application also requested the addition of fourteen additional test standards to its scope of recognition. OSHA staff performed a detailed analysis of the application and other pertinent information. OSHA staff also performed on-site reviews of SGS's testing and certification facilities on June 15, 2015 at SGS Shanghai, June 18, 2015 at SGS Ningbo, June 22, 2015 at SGS Shenzhen, June 24, 2015 at the two SGS Guangdong locations (Guangzhou and Shunde) and recommended expansion of SGS's recognition to include these five sites and these fourteen test standards.

OSHA published the preliminary notice announcing SGS's expansion application in the Federal Register on October 13, 2015 (80 FR 61472). The Agency requested comments by October 28, 2015, but it received no comments in response to this notice. OSHA now is proceeding with this final notice to grant expansion of SGS's scope of recognition.

To obtain or review copies of all public documents pertaining to the SGS's application, go to www.regulations.gov or contact the Docket Office, Occupational Safety and Health Administration, U.S. Department of Labor, 200 Constitution Avenue NW., Room N-2625, Washington, DC 20210. Docket No. OSHA-2006-0040 contains all materials in the record concerning SGS's recognition.

III. Final Decision and Order

OSHA staff examined SGS's expansion application, conducted a detailed on-site assessment, and examined other pertinent information. Based on its review of this evidence, OSHA finds that SGS meets the requirements of 29 CFR 1910.7 for expansion of its recognition, subject to the limitations and conditions listed below. OSHA, therefore, is proceeding with this final notice to grant SGS's scope of recognition expansion. OSHA limits the expansion of SGS's recognition to include the sites at Shanghai, China; Ningbo, China; Shenzhen, China; Guangzhou, China and Shunde, China as listed above. OSHA's recognition of these sites limits SGS to performing product testing and certifications only to the test standards for which the site has the proper capability and programs, and for test standards in SGS's scope of recognition. This limitation is consistent with the recognition that OSHA grants to other NRTLs that operate multiple sites. OSHA limits the expansion of SGS's recognition to testing and certification of products for demonstration of conformance to the test standards listed in Table 1 below.

Table 1—List of Appropriate Test Standards for Inclusion in SGS's NRTL Scope of Recognition
Test standard | Test standard title
UL 60745-2-18 | Hand-Held Motor-Operated Electric Tools—Safety—Part 2-18: Particular Requirements for Strapping Tools.
UL 60745-2-19 | Hand-Held Motor-Operated Electric Tools—Safety—Part 2-19: Particular Requirements for Jointers.
UL 60745-2-20 | Hand-Held Motor-Operated Electric Tools—Safety—Part 2-20: Particular Requirements for Band Saws.
UL 60745-2-21 | Hand-Held Motor-Operated Electric Tools—Safety—Part 2-21: Particular Requirements for Drain Cleaners.
UL 60745-2-22 | Hand-Held Motor-Operated Electric Tools—Safety—Part 2-22: Particular Requirements for Cut-Off Machines.
UL 60950-1 | Information Technology Equipment Safety—Part 1: General Requirements.
UL 60950-22 | Information Technology Equipment Safety—Part 22: Equipment to be Installed Outdoors.
UL 60335-2-24* | Safety Requirements for Household and Similar Electrical Appliances, Part 2: Refrigerating Appliances, Ice-Cream Appliances, and Ice-Makers.
UL 60335-2-40 | Safety of Household and Similar Electrical Appliances, Part 2: Particular Requirements for Electrical Heat Pumps, Air-Conditioners and Dehumidifiers.
UL 60335-2-3 | Standard for Safety of Household and Similar Electrical Appliances, Part 2: Particular Requirements for Electric Irons.
UL 60335-2-8 | Standard for Safety for Household and Similar Electrical Appliances, Part 2: Shaver, Hair Clipper and Similar Appliances.
UL 1778 | Uninterruptable Power Systems.
UL 2089 | Vehicle Battery Adapters.
UL 1993 | Self-Ballasted Lamps and Lamp Adapters.
* Test standard new to the NRTL Program.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, SGS also must abide by the following conditions of the recognition:

1. SGS must inform OSHA as soon as possible, in writing, of any change of ownership, facilities, or key personnel, and of any major change in its operations as an NRTL, and provide details of the change(s);

2. SGS must meet all the terms of its recognition and comply with all OSHA policies pertaining to this recognition; and

3. SGS must continue to meet the requirements for recognition, including all previously published conditions on SGS's scope of recognition, in all areas for which it has recognition.

OSHA also is making a final determination to add a new standard to the NRTL Program's list of appropriate test standards. OSHA determines that this test standard is an appropriate test standard. Table 2 below lists the test standard that will be added to the NRTL Program's list of Appropriate Test Standards.

Table 2—Test Standard OSHA Is Adding to the NRTL Program's List of Appropriate Test Standards
Test standard | Test standard title
UL 60335-2-24 | Safety Requirements for Household and Similar Electrical Appliances, Part 2: Refrigerating Appliances, Ice-Cream Appliances, and Ice-Makers.

Pursuant to the authority in 29 CFR 1910.7, OSHA hereby expands the recognition of SGS, subject to the limitations and conditions specified above.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on January 19, 2016.
David Michaels,
Assistant Secretary of Labor for Occupational Safety and Health.

[FR Doc. 2016-01285 Filed 1-21-16; 8:45 am]

BILLING CODE 4510-26-P